DEPARTMENT OF COMMERCE

National Technical Information Service

National Technical Information Service Advisory Board

AGENCY: National Technical Information Service, Commerce.

ACTION: Notice; extension of solicitation period for applications for NTIS Advisory Board.

SUMMARY: The National Technical Information Service (NTIS) is extending the solicitation period for seeking qualified Candidates to serve as members of its Advisory Board (Board). The Board will meet semiannually to advise the Secretary of Commerce, the Under Secretary for Technology, and the Director of NTIS on NTIS's mission, general policies and fee structure.

DATES: Applications must be received no later than December 3, 2002.

ADDRESSES: Applications should be submitted to Ronald E. Lawson, Director, NTIS, 5285 Port Royal Road, Springfield, Virginia 22161.

FOR FURTHER INFORMATION CONTACT: Walter L. Finch, (703) 605-6507 or via e-mail at wfinch@ntis.gov.

SUPPLEMENTARY INFORMATION: The National Technical Information Service (NTIS) issued a Federal Register notice on May 30, 2002 (67 FR 37778) seeking five qualified candidates to serve as members of its Advisory Board, one of whom will also be designated chairperson. The Board was established pursuant to Section 3704b(c) of Title 15, United States Code. It will meet semiannually to advise the Secretary of Commerce, the Under Secretary for Technology, and the Director of NTIS on NTIS's mission, general policies and fee structure. Members will be appointed by the Secretary and will serve for three-year terms. They will receive no compensation but will be authorized travel and per diem expenses. NTIS is seeking candidates who can provide guidance on trends in the information industry and changes in the way NTIS's customers acquire and use its products and services. Interested candidates were given until August 28, 2002 to express their interest by submitting a resume and a statement explaining their interest in serving on the Board.

In order to widen the pool of candidates and to provide candidates greater time to submit their expression of interest, NTIS is extending the solicitation period until December 3, 2002.

Dated: August 27, 2002.
Ronald E. Lawson,
Director.

[FR Doc. 02-22548 Filed 9-3-02; 8:45 am]

BILLING CODE 3510-04-M